Title 3—

The President

Presidential Determination No. 2007-8 of December 14, 2006

Determination Pursuant to Section 2(c)(1) of the Migration and Refugee Assistance Act of 1962, as Amended

Memorandum for the Secretary of State

Pursuant to section 2(c)(1) of the Migration and Refugee Assistance Act of 1962, as amended, 22 U.S.C. 2601(c)(1), I hereby determine that it is important to the national interest that up to $5.215 million be made available from the U.S. Emergency Refugee and Migration Assistance Fund for the purpose of meeting unexpected urgent refugee and migration needs resulting from conflicts in Somalia and Sri Lanka. These funds may be used, as appropriate, to provide contributions to international, governmental, and nongovernmental organizations and, as necessary, for administrative expenses of the Bureau of Population, Refugees, and Migration.

You are authorized and directed to inform the appropriate committees of the Congress of this determination and the obligation of funds under this authority and to publish this determination in the Federal Register.

THE WHITE HOUSE,

Washington, December 14, 2006.

[FR Doc. 06-9836

Filed 12-20-06; 8:45 am]

Billing code 4710-10-P